DEPARTMENT OF THE INTERIOR

Fish and Wildlife Service

Endangered Species Permit Applications

AGENCY: Fish and Wildlife Service.

ACTION: Notice of receipt of permit applications.

SUMMARY: The following applicants have applied for a scientific research permit to conduct certain activities with endangered species pursuant to section 10(a)(1)(A) of the Endangered Species Act of 1973, as amended (16 USC 1531 et seq.).

Permit No. TE-049668

Applicant: California Department of Fish and Game, Bishop, California.

The applicant requests a permit to take (capture, collect, sacrifice, and remove genetic samples) the Owens tui chub (Gila bicolor snyderi) in conjunction with physiological investigations in Inyo, Mono, and Madera Counties, California for the purpose of enhancing its survival.

Permit No. TE-050122

Applicant: California Department of Fish and Game, Bishop, California.

The applicant requests a permit to take (capture, mark with radio collars, tag, translocate, and collect biological samples) the bighorn sheep (Ovis canadensis) in conjunction with ecological research in Inyo and Mono Counties, California for the purpose of enhancing its survival.

Permit No. TE-802450

Applicant: Arthur E. Davenport, El Cajon, California.

The permittee requests a permit amendment to take (survey by pursuit) the Quino checkerspot butterfly (Euphydryas editha quino) and take (capture and tag) the San Bernardino kangaroo rat (Dipodomys merriami parvus) in conjunction with demographic studies on the San Diego National Wildlife Refuge, California for the purpose of enhancing their survival.

Permit No. TE-840622

Applicant: Coralie Hull Cobb, San Diego, California.

The permittee requests a permit amendment to take (harass by survey, collect, and sacrifice) the Conservancy fairy shrimp (Branchinecta conservatio), longhorn fairy shrimp (Branchinecta longiantenna), San Diego fairy shrimp (Branchinecta sandiegonensis), vernal pool tadpole shrimp (Lepidurus packardi), and Riverside fairy shrimp (Streptocephalus wootoni) throughout each species' range in conjunction with surveys for the purpose of enhancing their survival.

DATES: Written comments on these permit applications must be received on or before January 4, 2002.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: November 19, 2001.
Rowan W. Gould,
Acting Regional Director, Region 1, Portland, Oregon.

[FR Doc. 01-30042 Filed 12-4-01; 8:45 am]

BILLING CODE 4310-55-P